DEPARTMENT OF EDUCATION

Bilingual Education Graduate Fellowship Program

AGENCY: Department of Education.

ACTION: Notice of proposed waiver.

SUMMARY: The Secretary proposes to waive the requirements in Education Department General Administrative Regulations at 34 CFR 75.261 as they apply to the currently funded Bilingual Education Graduate Fellowship Programs. Section 75.261 sets forth the conditions for extending a project period, including the general prohibition against extending projects that involve the obligation of additional Federal funds. The Secretary proposes to issue continuation awards to the Bilingual Education Graduate Fellowship Program grantees in order to ensure the most efficient use of Federal funds. The Department is therefore soliciting public comment on the proposed waiver.

DATES: Comments must be received on May 16, 2001.

ADDRESSES: All comments concerning this proposal should be addressed to Joyce Brown, U.S. Department of Education, 400 Maryland Avenue, SW., room 5618, Switzer Building, Washington, DC 20202-6642.

FOR FURTHER INFORMATION CONTACT: Joyce Brown, Telephone: (202) 205-9727, or Cynthia Ryan, Telephone: (202) 205-8842. Individuals who use a telecommunications device for the deaf may call the Federal Information Relay Service (FIRS) at 1-800-877-8339. Individuals with disabilities may obtain this document in an alternative format (e.g., Braille, large print, audiotape, or computer diskette) by requesting it from the contact person listed under ADDRESSES.

SUPPLEMENTARY INFORMATION:

Background

On October 15, 1997, the Department issued a notice inviting applications for new awards under the Bilingual Education Graduate Fellowship Program for Fiscal Year 1998. In this notice the Department announced that it would make approximately 35 awards of up to 36 months under section 7145 of the Elementary and Secondary Education Act of 1965, as amended by the Improving America's Schools Act of 1994 (Public Law 103-382, enacted October 20, 1994 (the Act) (20 U.S.C. 7475). This section authorizes the Secretary to award fellowships for masters, doctoral, and post-doctoral study related to instruction of children and youth of limited English proficiency in such areas as teacher training, program administration, research and evaluation, and curriculum development, and for the support of dissertation research related to such study. The award period for the 34 participating institutions of higher education ends August 31, 2001. An extension would permit only the continued funding of currently enrolled fellows who have not received the maximum allowable years of assistance. However, to do so, the Department must waive the requirements in EDGAR at 34 CFR 75.261.

Basis for Extension

Due to the impending reauthorization of the Elementary and Secondary Education Act of 1965, which authorizes the Bilingual Education Graduate Fellowship Program, the Secretary believes that extending the performance period of current grantees represents a wiser course of action than holding a competition for new projects under expiring legislation. This action would allow support to continue for approximately 175 fellows who have received fewer than the maximum allowable years of assistance under this program. An additional year of assistance would enable most of these students to complete their programs of study and begin to repay the assistance as required under the current statute. Therefore, the Department proposes to issue continuation awards to the current grantees for one year.

Regulatory Flexibility Act Certification

The Secretary certifies that the proposed waiver would not have a significant economic impact on a substantial number of small entities. The small entities that would be affected by this proposal are the 34 institutions of higher education currently receiving Federal funds. However, the proposal would not have a significant economic impact on the institutions because the waiver would not impose excessive regulatory burdens or require unnecessary Federal supervision. The proposal would impose minimal requirements to ensure the proper expenditure of program funds, including requirements that are standard to continuation awards.

Paperwork Reduction Act of 1980

This proposal has been examined under the Paperwork Reduction Act of 1980 and has been found to contain no information collection requirements.

Intergovernmental Review

This program is subject to the requirements of Executive Order 12372 and the regulations in 34 CFR part 79. The objective of the Executive order is to foster an intergovernmental partnership and a strengthened federalism by relying on processes developed by State and local governments for coordination and review of proposed Federal financial assistance. In accordance with the order, this document is intended to provide early notification of the Department's specific plans and actions for this program.

Invitation To Comment

Interested persons are invited to submit comments and recommendations regarding this proposed waiver. All comments submitted in response to this proposal will be available for public inspection, during and after the comment period, in room 3521, 300 C Street, SW., Washington, DC, between the hours of 8:30 a.m. and 4:00 p.m., Monday through Friday of each week except Federal holidays.

Electronic Access to This Document

You may view this document, as well as all other Department of Education documents published in the Federal Register, in text or Adobe Portable Document Format (PDF) on the Internet at the following site: www.ed.gov/legislation/FedRegister

To use PDF, you must have Adobe Acrobat Reader, which is available free at the preceding site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number 84.195C, Bilingual Education Graduate Fellowship Program)

Dated: April 11, 2001.
Art Love,
Acting Director, Office of Bilingual Education and Minority Languages Affairs.

[FR Doc. 01-9385 Filed 4-13-01; 8:45 am]

BILLING CODE 4000-01-U